DEPARTMENT OF COMMERCE

International Trade Administration

[A-570-929]

Small Diameter Graphite Electrodes From the People's Republic of China: Preliminary Results of Antidumping Duty Administrative Review and Rescission of Review in Part; 2014-2015

AGENCY: Enforcement and Compliance, International Trade Administration, Department of Commerce.

SUMMARY: The Department of Commerce (the Department) is conducting an administrative review of the antidumping duty order on small diameter graphite electrodes (graphite electrodes) from the People's Republic of China (PRC), covering the period February 1, 2014 through January 31, 2015. The Department has preliminarily determined that during the period of review (POR), the Fangda Group ¹ and Fushun Jinly Petrochemical Co., Ltd. did not make sales of subject merchandise at less than normal value (NV). Interested parties are invited to comment on these preliminary results.

¹ We refer to the Fangda Group as a single entity pursuant to 19 CFR 351.401(f)(1). See Small Diameter Graphite Electrodes From the People's Republic of China: Preliminary Determination of Sales at Less Than Fair Value, Postponement of Final Determination, and Affirmative Preliminary Determination of Critical Circumstances, in Part, 73 FR 49408, 49411-12 (August 21, 2008) (where we collapsed the individual members of the Fangda Group: Beijing Fangda Carbon Tech Co., Ltd., Chengdu Rongguang Carbon Co., Ltd., Fangda Carbon New Material Co., Ltd., Fushun Carbon Co., Ltd., and Hefei Carbon Co., Ltd.), unchanged in Final Determination of Sales at Less Than Fair Value and Affirmative Determination of Critical Circumstances: Small Diameter Graphite Electrodes from the People's Republic of China, 74 FR 2049 (January 14, 2009).

DATES: Effective March 9, 2016.

FOR FURTHER INFORMATION CONTACT: Dmitry Vladimirov or Michael A. Romani, AD/CVD Operations, Office I, Enforcement and Compliance, International Trade Administration, U.S. Department of Commerce, 1401 Constitution Avenue NW., Washington DC 20230; telephone: (202) 482-0665 or (202) 482-0198, respectively.

Scope of the Order

The merchandise covered by the order includes all small diameter graphite electrodes with a nominal or actual diameter of 400 millimeters (16 inches) or less and graphite pin joining systems for small diameter graphite electrodes. Small diameter graphite electrodes and graphite pin joining systems for small diameter graphite electrodes that are subject to the order are currently classified under the Harmonized Tariff Schedule of the United States (HTSUS) subheadings 8545.11.0010, 3801.10, and 8545.11.0020. While the HTSUS subheadings are provided for convenience and customs purposes. The written description of the scope of the order is dispositive. A full description of the scope of the order is contained in the Preliminary Decision Memorandum.²

² See memorandum from Christian Marsh, Deputy Assistant Secretary for Antidumping and Countervailing Duty Operations, to Paul Piquado, Assistant Secretary for Enforcement and Compliance, “Decision Memorandum for Preliminary Results of Antidumping Duty Administrative Review: Small Diameter Graphite Electrodes from the People's Republic of China” dated concurrently with this notice (Preliminary Decision Memorandum), which is hereby adopted by this notice.

Tolling of Deadline of Preliminary Results of Review

As explained in the memorandum from the Acting Assistant Secretary for Enforcement and Compliance, the Department has exercised its discretion to toll all administrative deadlines due to the recent closure of the Federal Government. All deadlines in this segment of the proceeding have been extended by four business days.³

³ See Memorandum to the Record from Ron Lorentzen, Acting A/S for Enforcement & Compliance, regarding “Tolling of Administrative Deadlines As a Result of the Government Closure During Snowstorm Jonas,” dated January 27, 2016.

Rescission of the Administrative Review in Part

Pursuant to 19 CFR 351.213(d)(1), based on timely withdrawal of the requests for review, we are rescinding this administrative review with respect to 189 companies named in the Initiation Notice.⁴ See Appendix II for a full list of these companies.

⁴ See Initiation of Antidumping and Countervailing Duty Administrative Reviews, 80 FR 18202 (April 3, 2015) (Initiation Notice). See also Preliminary Decision Memorandum at 4 for more details.

Separate Rates

The Department preliminarily determines that the Fangda Group, Fushun Jinly Petrochemical Carbon Co., Ltd. (Fushun Jinly), and Xuzhou Jianglong Carbon Products Co., Ltd. (Xuzhou Jianglong) are eligible to receive separate rates in this review.⁵

⁵ See Preliminary Decision Memorandum at 5-6 for more details.

Separate Rate for an Eligible Non-Selected Company

Consistent with our practice, because we have calculated zero or de minimis weighted-average dumping margins for both companies selected as mandatory respondents, the Fangda Group and Fushun Jinly, we assigned to an eligible non-selected company, Xuzhou Jianlong, the rate that we calculated for the Fangda Group in the 2012-2013 review as the separate rate for the preliminary results of this review.⁶

⁶ Id., at 7-8.

PRC-Wide Entity

The Department's change in policy regarding conditional review of the PRC-wide entity applies to this review.⁷ Under this policy, the PRC-wide entity will not be under review unless a party specifically requests, or the Department self-initiates, a review of the entity. Because no party requested a review of the PRC-wide entity in this review, the entity is not under review, and the entity's rate of 159.64 percent is not subject to change.⁸ Aside from the separate rate companies discussed above, the Department is rescinding this review for all companies listed in the Initiation Notice and, as such, there are no remaining companies subject to the instant review that the Department considers to be part of the PRC-wide entity.

⁷ See Antidumping Proceedings: Announcement of Change in Department Practice for Respondent Selection in Antidumping Duty Proceedings and Conditional Review of the Nonmarket Economy Entity in NME Antidumping Duty Proceedings, 78 FR 65963, 65970 (November 4, 2013).

⁸ See Small Diameter Graphite Electrodes from the People's Republic of China: Final Results of Antidumping Duty Administrative Review; 2013-2014, 80 FR 13825 (March 17, 2015).

Methodology

The Department is conducting this review in accordance with section 751(a)(1)(B) of the Tariff Act of 1930, as amended (the Act). For the two mandatory respondents, the Fangda Group and Fushun Jinly, export prices have been calculated in accordance with section 772 of the Act. Because the PRC is a non-market economy (NME) within the meaning of section 771(18) of the Act, normal value has been calculated in accordance with section 773(c) of the Act. For a full description of the methodology underlying our conclusions, see the Preliminary Decision Memorandum. The Preliminary Decision Memorandum is a public document and is on file electronically via Enforcement and Compliance's Antidumping and Countervailing Duty Centralized Electronic Service System (ACCESS). ACCESS is available to registered users at https://access.trade.gov, and to all parties in the Central Records Unit, room B8024 of the main Department of Commerce building. In addition, a complete version of the Preliminary Decision Memorandum can be found at http://enforcement.trade.gov/frn/.

Preliminary Results of Review

The Department has determined that the following preliminary dumping margins exist for the period February 1, 2014, through January 31, 2015:

Company | Margin (percent)
Fangda Group | 0.00
Fushun Jinly Petrochemical Carbon Co., Ltd | 0.00
Xuzhou Jianglong Carbon Products Co., Ltd | 21.16

Disclosure and Public Comment

The Department intends to disclose calculations performed for these preliminary results to the parties within five days of the date of publication of this notice in accordance with 19 CFR 351.224(b). Pursuant to 19 CFR 351.309(c), interested parties may submit case briefs no later than 30 days after the date of publication of these preliminary results of review.⁹ Parties who submit case briefs or rebuttal briefs in this proceeding are encouraged to submit with each argument: (1) A statement of the issue; (2) a brief summary of the argument; and (3) a table of authorities.¹⁰ Rebuttal briefs, limited to issues raised in the case briefs, may be filed no later than five days after the cases briefs are filed.¹¹

⁹ See 19 CFR 351.309(c).

¹⁰ See 19 CFR 351.309(c)(2).

¹¹ See 19 CFR 351.309(d).

Interested parties who wish to request a hearing must submit a written request to the Assistant Secretary for Enforcement and Compliance, U.S. Department of Commerce, filed electronically using ACCESS. An electronically filed document must be received successfully in its entirety by the Department's ACCESS by 5:00 p.m. Eastern Time within 30 days after the date of publication of this notice.¹² Hearing requests should contain (1) the party's name, address, and telephone number; (2) the number of participants; and (3) a list of issues to be discussed. Issues raised in the hearing will be limited to those raised in the respective case briefs. The Department intends to issue the final results of this review, including the results of its analysis of issues raised by parties in their comments, within 120 days after the publication of these preliminary results, pursuant to section 751(a)(3)(A) of the Act and 19 CFR 351.213(h)(1), unless extended.

¹² See 19 CFR 351.310(c).

Assessment Rates

Upon issuing the final results of review, the Department will determine, and CBP shall assess, antidumping duties on all appropriate entries covered by this review.¹³ If a respondent's weighted-average dumping margin is above de minimis (i.e., 0.5 percent) in the final results of this review, we will calculate an importer-specific assessment rate on the basis of the ratio of the total amount of dumping calculated for the importer's examined sales and the total entered value of those sales in accordance with 19 CFR 351.212(b)(1). Specifically, the Department will apply the assessment rate calculation method adopted in Final Modification for Reviews.¹⁴ Where an importer- (or customer-) specific ad valorem rate is zero or de minimis, we will instruct CBP to liquidate appropriate entries without regard to antidumping duties.¹⁵

¹³ See 19 CFR 351.212(b)(1).

¹⁴ See Antidumping Proceeding: Calculation of the Weighted-Average Dumping Margin and Assessment Rate in Certain Antidumping Duty Proceedings; Final Modification, 77 FR 8103 (February 14, 2012) (Final Modification for Reviews).

¹⁵ See 19 CFR 351.106(c)(2).

For all companies for which the review is being rescinded, the antidumping duty shall be assessed at the rate equal to the cash deposit of the estimated antidumping duty required at the time of entry, or withdrawal from warehouse, for consumption, in accordance with 19 CFR 351.212(c)(2). We will instruct CBP accordingly.

For entries that were not reported in the U.S. sales databases submitted by exporters individually examined during this review, the Department will instruct CBP to liquidate such entries at the PRC-wide rate. The Department intends to issue appropriate assessment instructions directly to CBP 15 days after publication of the final results of review.

Cash Deposit Requirements

The following cash deposit requirements will be effective upon publication of the final results of this administrative review for shipments of the subject merchandise from the PRC entered, or withdrawn from warehouse, for consumption on or after the publication date, as provided by section 751(a)(2)(C) of the Act: (1) For subject merchandise exported by the companies listed above that have separate rates, the cash deposit rate will be that established in the final results of review (except, if the rate is zero or de minimis, then zero cash deposit will be required); (2) for previously investigated or reviewed PRC and non-PRC exporters not listed above that received a separate rate in a prior segment of this proceeding, the cash deposit rate will continue to be the existing exporter-specific rate; (3) for all PRC exporters of subject merchandise that have not been found to be entitled to a separate rate, the cash deposit rate will be that for the PRC-wide entity; and (4) for all non-PRC exporters of subject merchandise which have not received their own rate, the cash deposit rate will be the rate applicable to the PRC exporter that supplied that non-PRC exporter. These deposit requirements, when imposed, shall remain in effect until further notice.

Notification to Importers

This notice serves as a preliminary reminder to importers of their responsibility under 19 CFR 351.402(f)(2) to file a certificate regarding the reimbursement of antidumping duties prior to liquidation of the relevant entries during this POR. Failure to comply with this requirement could result in the Department's presumption that reimbursement of antidumping duties occurred and the subsequent assessment of doubled antidumping duties.

We are issuing and publishing these results in accordance with sections 751(a)(1) and 777(i)(1) of the Act and 19 CFR 351.213.

Dated: March 2, 2016.
Paul Piquado,
Assistant Secretary for Enforcement and Compliance.

Appendix I—List of Topics Discussed in the Preliminary Decision Memorandum

Summary

Background

Scope of the Order

Rescission of Administrative Review in Part

Discussion of the Methodology

Non-Market Economy Country Status

Separate Rates

Rate for Non-Selected Company

PRC-Wide Entity

Surrogate Country

Date of Sale

Comparisons to Normal Value

Export Price

Normal Value

Factor Valuations

Use of Facts Available for Certain Factors of Production

Currency Conversion

Recommendation

Appendix II

1. 5-Continent Imp. & Exp. Co., Ltd.

2. Acclcarbon Co., Ltd.

3. Allied Carbon (China) Co., Limited

4. Anssen Metallurgy Group Co., Ltd.

5. AMGL

6. Apex Maritime (Dalian) Co., Ltd.

7. Asahi Fine Carbon (Dalian) Co., Ltd.

8. Beijing International Trade Co., Ltd.

9. Beijing Kang Jie Kong Cargo Agent Expeditors (Tianjin Branch)

10. Beijing Xinchengze Inc.

11. Beijing Xincheng Sci-Tech. Development Inc.

12. Brilliant Charter Limited

13. Carbon International

14. Chang Cheng Chang Electrode Co., Ltd.

15. Chengde Longhe Carbon Factory

16. Chengdelh Carbonaceous Elements Factory

17. Chengdu Jia Tang Corp.

18. China Carbon Graphtie Group Inc.

19. China Industrial Mineral & Metals Group

20. China Shaanxi Richbond Imp. & Exp. Industrial Corp. Ltd.

21. China Xingyong Carbon Co., Ltd.

22. CIMM Group Co., Ltd.

23. Dalian Carbon & Graphite Corporation

24. Dalian Hongrui Carbon Co., Ltd.

25. Dalian Honest International Trade Co., Ltd.

26. Dalian Horton International Trading Co., Ltd.

27. Dalian LST Metallurgy Co., Ltd.

28. Dalian Oracle Carbon Co., Ltd.

29. Dalian Shuangji Co., Ltd.

30. Dalian Thrive Metallurgy Imp. & Exp. Co., Ltd.

31. Datong Carbon

32. Datong Carbon Plant

33. Datong Xincheng Carbon Co., Ltd.

34. Datong Xincheng New Material Co., Ltd.

35. Dechang Shida Carbon Co., Ltd

36. De Well Container Shipping Corp.

37. Dewell Group

38. Dignity Success Investment Trading Co., Ltd.

39. Double Dragon Metals and Mineral Tools Co., Ltd.

40. Fangda Carbon New Material and Technology Co., Ltd.

41. Fangda Lanzhou Carbon Joint Stock Company Co. Ltd.

42. Foset Co., Ltd.

43. Fushun Carbon Plant

44. Fushun Oriental Carbon Co., Ltd.

45. GES (China) Co., Ltd.

46. Grameter Shipping Co., Ltd. (Qingdao Branch)

47. Guangdong Highsun Yongye (Group) Co., Ltd.

48. Guanghan Shida Carbon Co., Ltd.

49. Haimen Shuguang Carbon Industry Co., Ltd.

50. Handan Hanbo Material Co., Ltd.

51. Hanhong Precision Machinery Co., Ltd.

52. Hebei Long Great Wall Electrode Co., Ltd.

53. Heico Universal (Shanghai) Distribution Co., Ltd.

54. Heilongjiang Xinyuan Carbon Co. Ltd.

55. Heilongjiang Xinyuan Carbon Products Co., Ltd.

56. Henan Sanli Carbon Products Co., Ltd.

57. Henan Sihai Import and Export Co., Ltd.

58. Hopes (Beijing) International Co., Ltd.

59. Huanan Carbon Factory

60. Hunan Mec Machinery and Electronics Imp. & Exp. Corp.

61. Hunan Yinguang Carbon Factory Co., Ltd.

62. Inner Mongolia QingShan Special Graphite and Carbon Co., Ltd.

63. Inner Mongolia Xinghe County Hongyuan Electrical Carbon Factory

64. Jiangsu Yafei Carbon Co., Ltd.

65. Jiaozuo Zhongzhou Carbon Products Co., Ltd.

66. Jichun International Trade Co., Ltd. of Jilin Province

67. Jiexiu Juyuan Carbon Co., Ltd.

68. Jiexiu Ju-Yuan & Coaly Co., Ltd.

69. Jilin Carbon Graphite Material Co., Ltd.

70. Jilin Carbon Import and Export Company

71. Jilin Songjiang Carbon Co Ltd.

72. Jinneng Group

73. Jinneng Group Co., Ltd.

74. Jinyu Thermo-Electric Material Co., Ltd.

75. JL Group

76. Kaifeng Carbon Company Ltd.

77. KASY Logistics (Tianjin) Co., Ltd.

78. Kimwan New Carbon Technology and Development Co., Ltd.

79. Kingstone Industrial Group Ltd.

80. L & T Group Co., Ltd.

81. Laishui Long Great Wall Electrode Co. Ltd.

82. Lanzhou Carbon Co., Ltd.

83. Lanzhou Carbon Import & Export Corp.

84. Lanzhou Hailong New Material Co.

85. Lanzhou Hailong Technology

86. Lanzhou Ruixin Industrial Material Co., Ltd.

87. Lianxing Carbon Qinghai Co., Ltd.

88. Lianxing Carbon Science Institute

89. Lianxing Carbon (Shandong) Co., Ltd.

90. Lianyungang Jinli Carbon Co., Ltd.

91. Lianyungang Jianglida Mineral Co., Ltd.

92. Liaoning Fangda Group Industrial Co., Ltd.

93. Liaoyang Carbon Co. Ltd.

94. Linghai Hongfeng Carbon Products Co., Ltd.

95. Linyi County Lubei Carbon Co., Ltd.

96. Maoming Yongye (Group) Co., Ltd.

97. MBI Beijing International Trade Co., Ltd.

98. Nantong Dongjin New Energy Co., Ltd.

99. Nantong Falter New Energy Co., Ltd.

100. Nantong River-East Carbon Co., Ltd.

101. Nantong River-East Carbon Joint Stock Co., Ltd.

102. Nantong Yangtze Carbon Corp. Ltd.

103. Nantong Yanzi Carbon Co. Ltd.

104. Oracle Carbon Co., Ltd.

105. Orient (Dalian) Carbon Resources Developing Co., Ltd.

106. Orient Star Transport International, Ltd.

107. Peixian Longxiang Foreign Trade Co. Ltd.

108. Pingdingshan Coal Group

109. Pudong Trans USA, Inc. (Dalian Office)

110. Qingdao Grand Graphite Products Co., Ltd.

111. Qingdao Haosheng Metals Imp. & Exp. Co., Ltd.

112. Quingdao Haosheng Metals & Minerals Imp. & Exp. Co., Ltd.

113. Qingdao Liyikun Carbon Development Co., Ltd.

114. Qingdao Likun Graphite Co., Ltd.

115. Qingdao Ruizhen Carbon Co., Ltd.

116. Qingdao Yijia E.T.I. I/E Co., Ltd.

117. Qingdao Youyuan Metallurgy Material Limited Company (China)

118. Ray Group Ltd.

119. Rex International Forwarding Co., Ltd.

120. Rt Carbon Co., Ltd.

121. Ruitong Carbon Co., Ltd.

122. Sea Trade International, Inc.

123. Seamaster Global Forwarding (China)

124. Shandong Basan Carbon Plant

125. Shandong Zibo Continent Carbon Factory

126. Shanghai Carbon International Trade Co., Ltd.

127. Shanghai GC Co., Ltd.

128. Shanghai Jinneng International Trade Co., Ltd.

129. Shanghai P.W. International Ltd.

130. Shanghai Shen-Tech Graphite Material Co., Ltd.

131. Shanghai Topstate International Trading Co., Ltd.

132. Shanxi Cimm Donghai Advanced Carbon Co., Ltd.

133. Shanxi Datong Energy Development Co., Ltd.

134. Shanxi Foset Carbon Co. Ltd.

135. Shanxi Jiexiu Import and Export Co., Ltd.

136. Shanxi Jinneng Group Co., Ltd.

137. Shanxi Yunheng Graphite Electrode Co., Ltd.

138. Shenyang Jinli Metals & Minerals Imp. & Exp. Co., Ltd.

139. Shida Carbon Group

140. Shijaizhuang Carbon Co., Ltd.

141. Shijiazhuang Huanan Carbon Factory

142. Sichuan 5-Continent Imp & Exp Co., Ltd.

143. Sichuan Dechang Shida Carbon Co., Ltd.

144. Sichuan GMT International Inc.

145. Sichuan Guanghan Shida Carbon Co., Ltd

146. Sichuan Shida Carbon Co., Ltd.

147. Sichuan Shida Trading Co., Ltd.

148. Sinicway International Logistics Ltd.

149. Sinosteel Anhui Co., Ltd.

150. Sinosteel Corp.

151. Sinosteel Jilin Carbon Co., Ltd.

152. Sinosteel Jilin Carbon Imp. & Exp. Co., Ltd.

153. Sinosteel Jilin Carbon Plant

154. Sinosteel Sichuan Co., Ltd.

155. SK Carbon

156. SMMC Group Co., Ltd.

157. Sure Mega (Hong Kong) Ltd.

158. Tangshan Kimwan Special Carbon & Graphite Co., Ltd.

159. Tengchong Carbon Co., Ltd.

160. T.H.I. Global Holdings Corp.

161. T.H.I. Group (Shanghai), Ltd.

162. Tianjin (Teda) Iron & Steel Trade Co., Ltd.

163. Tianjin Kimwan Carbon Technology and Development Co., Ltd.

164. Tianjin Yue Yang Industrial & Trading Co., Ltd.

165. Tianzhen Jintian Graphite Electrodes Co., Ltd.

166. Tielong (Chengdu) Carbon Co., Ltd.

167. UK Carbon & Graphite

168. United Carbon Ltd.

169. United Trade Resources, Inc.

170. Weifang Lianxing Carbon Co., Ltd.

171. World Trade Metals & Minerals Co., Ltd.

172. XC Carbon Group

173. Xinghe County Muzi Carbon Co., Ltd., a.k.a. Xinghe County Muzi Carbon Plant

174. Xinghe Xingyong Carbon Co., Ltd.

175. Xinghe Xinyuan Carbon Products Co., Ltd.

176. Xinyuan Carbon Co., Ltd.

177. Xuanhua Hongli Refractory and Mineral Company

178. Xuchang Minmetals & Industry Co., Ltd.

179. Xuzhou Carbon Co., Ltd.

180. Xuzhou Electrode Factory

181. Xuzhou Jianglong Carbon Manufacture Co., Ltd.

182. Yangzhou Qionghua Carbon Trading Ltd.

183. Yixing Huaxin Imp & Exp Co. Ltd.

184. Youth Industry Co., Ltd.

185. Zhengzhou Jinyu Thermo-Electric Material Co., Ltd.

186. Zibo Continent Carbon Factory

187. Zibo DuoCheng Trading Co., Ltd.

188. Zibo Lianxing Carbon Co., Ltd.

189. Zibo Wuzhou Tanshun Carbon Co., Ltd

[FR Doc. 2016-05306 Filed 3-8-16; 8:45 am]

BILLING CODE 3510-DS-P